FEDERAL COMMUNICATIONS COMMISSION

47 CFR Part 73

[FCC 03-327; MM Docket No. 01-131, RM-10148, MM Docket No. 01-133, 10143, RM-10150]

Radio Broadcasting Services; Benjamin and Mason, TX

AGENCY: Federal Communications Commission.

ACTION: Final rule; denial of application for review.

SUMMARY: This document denies an Application for Review filed by Charles Crawford directed to both the Memorandum Opinion and Order in MM Docket No. 01-131 and MM Docket No. 01-133 concerning his respective proposals for a Channel 257C2 allotment at Benjamin, Texas, and a Channel 249C3 allotment at Mason, Texas. See 68 FR 5854, February 5, 2003. With this action, the proceeding is terminated.

FOR FURTHER INFORMATION CONTACT: Robert Hayne, Mass Media Bureau (202) 418-2177.

SUPPLEMENTARY INFORMATION: This is a synopsis of the Commission's Memorandum Opinion and Order in MM Docket No. 01-131, and MM Docket No. 01-133 adopted December 18, 2003, and released January 8, 2004. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

Federal Communications Commission.
Marlene H. Dortch,
Secretary.

[FR Doc. 04-2896 Filed 2-10-04; 8:45 am]

BILLING CODE 6712-01-P